DEPARTMENT OF ENERGY

Federal Energy Regulatory Commission

Combined Notice of Filings #1

Take notice that the Commission received the following electric corporate filings:

Docket Numbers: EC16-5-000.

Applicants: Little Elk Wind Project, LLC.

Description: Application for Authorization under Section 203 of the Federal Power Act, Request for Expedited Consideration and Confidential Treatment of Little Elk Wind Project, LLC.

Filed Date: 10/7/15.

Accession Number: 20151007-5067.

Comments Due: 5 p.m. ET 10/28/15.

Take notice that the Commission received the following electric rate filings:

Docket Numbers: ER10-2179-030; ER10-2181-030; ER10-2182-030.

Applicants: Calvert Cliffs Nuclear Power Plant, LLC, Nine Mile Point Nuclear Station, LLC, R.E. Ginna Nuclear Power Plant, LLC.

Description: Notice of Non-material Change in Status of the CENG Nuclear Entities.

Filed Date: 10/7/15.

Accession Number: 20151007-5162.

Comments Due: 5 p.m. ET 10/28/15.

Docket Numbers: ER10-2331-037; ER14-630-014; ER10-2319-029; ER10-2317-029; ER13-1351-011; ER10-2330-036.

Applicants: J.P. Morgan Ventures Energy Corporation, AlphaGen Power LLC, BE Alabama LLC, BE CA LLC, Florida Power Development LLC, Utility Contract Funding, L.L.C.

Description: Notice of Non-Material Change in Status of the J.P. Morgan Sellers.

Filed Date: 10/7/15.

Accession Number: 20151007-5138.

Comments Due: 5 p.m. ET 10/28/15.

Docket Numbers: ER10-2331-038; ER14-630-015; ER10-2319-030; ER10-2317-030; ER13-1351-012; ER10-2330-037.

Applicants: J.P. Morgan Ventures Energy Corporation, AlphaGen Power LLC, BE Alabama LLC, BE CA LLC, Florida Power Development LLC, Utility Contract Funding, L.L.C.

Description: Notice of Non-Material Change in Status of the J.P. Morgan Sellers.

Filed Date: 10/7/15.

Accession Number: 20151007-5141.

Comments Due: 5 p.m. ET 10/28/15.

Docket Numbers: ER10-2331-039; ER14-630-016; ER10-2319-031; ER10-2317-031; ER13-1351-013; ER10-2330-038.

Applicants: J.P. Morgan Ventures Energy Corporation, AlphaGen Power LLC, BE Alabama LLC, BE CA LLC, Florida Power Development LLC, Utility Contract Funding, L.L.C.

Description: Notice of Non-Material Change in Status of the J.P. Morgan Sellers.

Filed Date: 10/7/15.

Accession Number: 20151007-5148.

Comments Due: 5 p.m. ET 10/28/15.

Docket Numbers: ER10-2331-041; ER14-630-018; ER10-2319-033; ER10-2317-033; ER13-1351-015; ER10-2330-040.

Applicants: J.P. Morgan Ventures Energy Corporation, AlphaGen Power LLC, BE Alabama LLC, BE CA LLC, Florida Power Development LLC, Utility Contract Funding, L.L.C.

Description: Notice of Non-Material Change in Status of the J.P. Morgan Sellers.

Filed Date: 10/7/15.

Accession Number: 20151007-5170.

Comments Due: 5 p.m. ET 10/28/15.

Docket Numbers: ER15-2211-003.

Applicants: MidAmerican Energy Services, LLC.

Description: Compliance filing: ER15-2211-000 Compliance Filing to be effective 9/14/2015.

Filed Date: 10/7/15.

Accession Number: 20151007-5110.

Comments Due: 5 p.m. ET 10/28/15.

Docket Numbers: ER15-2380-000.

Applicants: Willey Battery Utility, LLC.

Description: Request of Willey Battery Utility, LLC to Change Effective Date of Market-Based Wholesale Power Sales Tariff.

Filed Date: 10/7/15.

Accession Number: 20151007-5140.

Comments Due: 5 p.m. ET 10/28/15.

Docket Numbers: ER15-2483-001.

Applicants: LRI Renewable Energy LLC.

Description: Tariff Amendment: Emerald City Amendment to LRI—Refile to be effective 10/7/2015.

Filed Date: 10/7/15.

Accession Number: 20151007-5101.

Comments Due: 5 p.m. ET 10/28/15.

Docket Numbers: ER16-30-000.

Applicants: PJM Interconnection, L.L.C.

Description: Section 205(d) Rate Filing: First Revised Interconnection Service Agreement No. 2005, Queue No. Y2-064 to be effective 9/11/2015.

Filed Date: 10/6/15.

Accession Number: 20151006-5298.

Comments Due: 5 p.m. ET 10/27/15.

Docket Numbers: ER16-31-000.

Applicants: Otter Tail Power Company.

Description: Initial rate filing: Operating Services Agreement with Central Power Electric Cooperative, Inc. to be effective 10/15/2015.

Filed Date: 10/6/15.

Accession Number: 20151006-5319.

Comments Due: 5 p.m. ET 10/27/15.

Docket Numbers: ER16-32-000.

Applicants: Midcontinent Independent System Operator, Inc.

Description: Section 205(d) Rate Filing: 2015-10-07—Module A, Section 3 Ancillary Services Revisions to be effective 12/6/2015.

Filed Date: 10/7/15.

Accession Number: 20151007-5099.

Comments Due: 5 p.m. ET 10/28/15.

Docket Numbers: ER16-33-000.

Applicants: Midcontinent Independent System Operator, Inc.

Description: Section 205(d) Rate Filing: 2015-10-07—SA 2849 Consumers Energy Lake Winds Energy Park GIA to be effective 1/1/2016.

Filed Date: 10/7/15.

Accession Number: 20151007-5106.

Comments Due: 5 p.m. ET 10/28/15.

Take notice that the Commission received the following electric securities filings:

Docket Numbers: ES15-67-000.

Applicants: Louisville Gas & Electric Company.

Description: Revised Exhibits C, D, and E to September 4, 2015 Application under Section 204 of the Federal Power Act of Louisville Gas and Electric Company.

Filed Date: 10/6/15.

Accession Number: 20151006-5237.

Comments Due: 5 p.m. ET 10/27/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 7, 2015.
Nathaniel J. Davis, Sr.,
Deputy Secretary.

[FR Doc. 2015-26112 Filed 10-13-15; 8:45 am]

BILLING CODE 6717-01-P